LIBRARY OF CONGRESS

U.S. Copyright Office

37 CFR Part 202

[Docket No. 2016-3]

Mandatory Deposit of Electronic Books and Sound Recordings Available Only Online

AGENCY: U.S. Copyright Office, Library of Congress.

ACTION: Extension of comment period.

SUMMARY: The United States Copyright Office is extending the deadline for the submission of written comments in response to its May 17, 2016 Notice of Inquiry regarding the mandatory deposit of online-only electronic books and sound recordings.

DATES: Written comments are now due no later than 11:59 p.m. Eastern Time on August 18, 2016.

ADDRESSES: The Copyright Office is using the regulations.gov system for the submission and posting of public comments in this proceeding. All comments are therefore to be submitted electronically through regulations.gov. Specific instructions for submitting comments are available on the Copyright Office Web site at http://copyright.gov/policy/mandatorydeposit/. If electronic submission of comments is not feasible, please contact the Office using the contact information below for special instructions.

FOR FURTHER INFORMATION CONTACT: Jacqueline C. Charlesworth, General Counsel and Associate Register of Copyrights, jcharlesworth@loc.gov; or Sarang V. Damle, Deputy General Counsel, sdam@loc.gov. Both can be reached by telephone at 202-707-8350.

SUPPLEMENTARY INFORMATION: The United States Copyright Office is undertaking an inquiry into the current interim rule regarding mandatory deposit of online-only electronic works, and the rule's potential expansion to cover electronic books and sound recordings. On May 17, 2016, the Copyright Office issued a Notice of Inquiry seeking public input on several questions related to that topic. See 81 FR 30505 (May 17, 2016). To ensure that commenters have sufficient time to respond, the Copyright Office is extending the deadline for the submission of initial comments in response to the Notice to August 18, 2016, at 11:59 p.m. Eastern Time.

Dated: June 7, 2016.
Jacqueline C. Charlesworth,
General Counsel and Associate Register of Copyrights, U.S. Copyright Office.

[FR Doc. 2016-13814 Filed 6-9-16; 8:45 am]

BILLING CODE 1410-30-P